DEPARTMENT OF THE INTERIOR

Bureau of Indian Affairs

Renewal of Agency Information Collection for Appointed Counsel in Involuntary Indian Child Custody Proceedings in State Courts

AGENCY: Bureau of Indian Affairs, Interior.

ACTION: Notice of request for comments.

SUMMARY: The Bureau of Indian Affairs (BIA) is proposing to submit the information collection, titled “Payment for Appointed Counsel in Involuntary Indian Child Custody Proceedings in State Courts, 25 CFR 23.13” to the Office of Management and Budget for renewal. The information collection is currently authorized by OMB Control Number 1076-0111, which expires February 28, 2010. The information collection requires State courts that appoint counsel for an indigent Indian parent or Indian custodian in an involuntary Indian child custody proceeding to submit certain information to BIA for reimbursement when appointment of counsel is not authorized by State law.

DATES: Interested persons are invited to submit comments on or before December 29, 2009.

ADDRESSES: You may submit comments on the information collection to Sue Settles, Chief, Division of Human Services, Office of Indian Services, Bureau of Indian Affairs, Department of the Interior, 1849 C Street, NW., Mail Stop 4513, Washington, DC 20240, facsimile: (202) 208-5113.

FOR FURTHER INFORMATION CONTACT: You may request further information or obtain copies of the information collection request submission from Sue Settles, telephone: (202) 513-7621.

SUPPLEMENTARY INFORMATION:

I. Abstract

The BIA is seeking renewal of the approval for the information collection conducted under 25 CFR 23.13, implementing the Indian Child Welfare Act (25 U.S.C. 1901 et seq.). Approval for this collection expires February 28, 2010. The information collection allows BIA to receive written requests by State courts that appoint counsel for an indigent Indian parent or Indian custodian in an involuntary Indian child custody proceeding when appointment of counsel is not authorized by State law. No third party notification or public disclosure burden is associated with this collection. There is no change to the approved burden hours for this information collection.

II. Request for Comments

The BIA requests that you send your comments on this collection to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number. Approval for this collection expires February 28, 2010.

It is our policy to make all comments available to the public for review at the location listed in the ADDRESSES section during the hours of 9 a.m.-5 p.m., Eastern Time, Monday through Friday except for legal holidays. Before including your address, phone number, e-mail address or other personally identifiable information, be advised that your entire comment—including your personally identifiable information—may be made public at any time. While you may request that we withhold your personally identifiable information, we cannot guarantee that we will be able to do so.

III. Data

OMB Control Number: 1076-0111.

Title: Payment for Appointed Counsel in Involuntary Indian Child Custody Proceedings in State Courts, 25 CFR 23.13.

Brief Description of Collection: Submission of this information is required by State courts or individual Indians in order to receive payment for appointed counsel in involuntary Indian child custody proceedings in State courts, where appointment of counsel is not authorized by State law. Response is required to obtain a benefit.

Type of Review: Extension without change of a currently approved collection.

Respondents: State courts and individual Indians eligible for payment of attorney fees.

Number of Respondents: 4.

Total Number of Responses: Once, on occasion.

Estimated Time per Response: 2 hours for reporting and 1 hour for recordkeeping.

Estimated Total Annual Burden: 12 hours ([2 hours reporting × 4 respondents] + [1 hour recordkeeping + 4 respondents])

Dated: October 21, 2009.
Alvin Foster,
Chief Information Officer—Indian Affairs.

[FR Doc. E9-26159 Filed 10-29-09; 8:45 am]

BILLING CODE 4310-4J-P